COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add service(s) to the Procurement List that will be furnished by nonprofit agencies employing persons who are blind or have other severe disabilities, and deletes product(s) and service(s) previously furnished by such agencies.

DATES: Comments must be received on or before: March 7, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Grounds Maintenance

Mandatory for: Federal Aviation Administration, Covington Air Traffic Control Tower (CVG ATCT), Erlanger, KY and Covington VHF Omni-Range Tactical Air Navigation (VORTAC), Burlington, KY

Designated Source of Supply: Greater Cincinnati Behavioral Health Services, Cincinnati, OH

Contracting Activity: Federal Aviation Administration, 697Dck Regional Acquisitions Svcs

Deletions

The following product(s) and service(s) are proposed for deletion from the Procurement List:

Product(s)

NSN(s)—Product Name(s):

8415-01-538-6057—Wind Jacket, ECWCS Gen III, Layer IV, U.S. Army, Universal Camouflage, Small/Regular

8415-01-538-6067—Wind Jacket, ECWCS Gen III, Layer IV, U.S. Army, Universal Camouflage, Medium/Regular

8415-01-538-6074—Wind Jacket, ECWCS Gen III, Layer IV, U.S. Army, Universal Camouflage, Large/Regular

8415-01-538-6080—Wind Jacket, ECWCS Gen III, Layer IV, U.S. Army, Universal Camouflage, X-Large/Regular

8415-01-546-8657—Wind Jacket, ECWCS Gen III, Layer IV, U.S. Army, Universal Camouflage, X-Small/Short

8415-01-546-8667—Wind Jacket, ECWCS Gen III, Layer IV, U.S. Army, Universal Camouflage, X-Small/Regular

8415-01-546-8745—Wind Jacket, ECWCS Gen III, Layer IV, U.S. Army, Universal Camouflage, Small/Short

8415-01-546-8758—Wind Jacket, ECWCS Gen III, Layer IV, U.S. Army, Universal Camouflage, Small/Long

8415-01-546-8809—Wind Jacket, ECWCS Gen III, Layer IV, U.S. Army, Universal Camouflage, Medium/Long

8415-01-546-8820—Wind Jacket, ECWCS Gen III, Layer IV, U.S. Army, Universal Camouflage, X-Large/X-Long

8415-01-546-8828—Wind Jacket, ECWCS Gen III, Layer IV, U.S. Army, Universal Camouflage, XX-Large/Regular

8415-01-546-8829—Wind Jacket, ECWCS Gen III, Layer IV, U.S. Army, Universal Camouflage, XX-Large/Long

8415-01-546-8834—Wind Jacket, ECWCS Gen III, Layer IV, U.S. Army, Universal Camouflage, XX-Large/X-Long

Mandatory Source of Supply: Blind Industries & Services of Maryland, Baltimore, MD

Contracting Activity: DLA Troop Support, Philadelphia, PA

NSN(s)—Product Name(s):

8415-01-538-6082—Wind Jacket, ECWCS Gen III, Layer IV, U.S. Army, Universal Camouflage, Large/Long

8415-01-538-6089—Wind Jacket, ECWCS Gen III, Layer IV, U.S. Army, Universal Camouflage, X-Large/Long

8415-01-580-0702—Wind Jacket, ECWCS Gen III, Layer IV, U.S. Army, OEFCP, X-Small-Short

8415-01-580-0706—Wind Jacket, ECWCS Gen III, Layer IV, U.S. Army, OEFCP, X-Small-Regular

8415-01-580-0713—Wind Jacket, ECWCS Gen III, Layer IV, U.S. Army, OEFCP, Small-Short

8415-01-580-0724—Wind Jacket, ECWCS Gen III, Layer IV, U.S. Army, OEFCP, Small-Regular

8415-01-580-0728—Wind Jacket, ECWCS Gen III, Layer IV, U.S. Army, OEFCP, Small-Long

8415-01-580-0730—Wind Jacket, ECWCS Gen III, Layer IV, U.S. Army, OEFCP, Medium-Regular

8415-01-580-0733—Wind Jacket, ECWCS Gen III, Layer IV, U.S. Army, OEFCP, Medium-Long

8415-01-580-0744—Wind Jacket, ECWCS Gen III, Layer IV, U.S. Army, OEFCP, Large-Regular

8415-01-580-0751—Wind Jacket, ECWCS Gen III, Layer IV, U.S. Army, OEFCP, Large-Long

8415-01-580-0754—Wind Jacket, ECWCS Gen III, Layer IV, U.S. Army, OEFCP, X-Large-Regular

8415-01-580-0759—Wind Jacket, ECWCS Gen III, Layer IV, U.S. Army, OEFCP, X-Large-Long

8415-01-580-0760—Wind Jacket, ECWCS Gen III, Layer IV, U.S. Army, OEFCP, X-Large-X-Long

8415-01-580-0925—Wind Jacket, ECWCS Gen III, Layer IV, U.S. Army, OEFCP, XX-Large-Regular

8415-01-580-0936—Wind Jacket, ECWCS Gen III, Layer IV, U.S. Army, OEFCP, XX-Large-Long

8415-01-580-0941—Wind Jacket, ECWCS Gen III, Layer IV, U.S. Army, OEFCP, XX-Large-X-Long

Mandatory Source of Supply: Blind Industries & Services of Maryland, Baltimore, MD

Contracting Activity: DLA Troop Support, Philadelphia, PA

NSN(s)—Product Name(s):

MR 1104—Pop Up Mesh Hamper

MR 11063—Grocery Shopping Tote Bag, Collapsible

Designated Source of Supply: Industries for the Blind and Visually Impaired, Inc., West Allis, WI

Contracting Activity: Military Resale-Defense Commissary Agency

NSN(s)—Product Name(s):

MR 1069—Mop, Ratchet, Twist Action, Microfiber

MR 1079—Refill, Mop, Ratchet, Twist Action, Microfiber

Designated Source of Supply: LC Industries, Inc., Durham, NC

Contracting Activity: Military Resale-Defense Commissary Agency

NSN(s)—Product Name(s):

7520-01-622-7154—Portable Desktop Clipboard, 10” W x 2-3/5” D x 16” H, Army Green

7520-01-622-7155—Portable Desktop Clipboard with Calculator, 10” W x 2-3/5” D x 16” H, Blue

7520-01-622-7157—Portable Desktop Clipboard with Calculator, 10” W x 2-3/5” D x 16” H, Black

Designated Source of Supply: LC Industries, Inc., Durham, NC

Contracting Activity: GSA/FAS Admin Svcs Acquisition Br(2, New York, NY

NSN(s)—Product Name(s):

7510-01-600-5977—Toner Cartridge, Laser, Double Yield, Compatible w/Lexmark T640/T642/T644 Series Printers

Designated Source of Supply: TRI Industries NFP, Vernon Hills, IL

Contracting Activity: GSA/FAS Admin Svcs Acquisition Br(2, New York, NY

NSN(s)—Product Name(s):

5340-00-137-7767—Strap Assembly, 1” x 67”

Designated Source of Supply: Cambria County Association for the Blind and Handicapped, Johnstown, PA

Contracting Activity: DLA Troop Support, Philadelphia, PA

NSN(s)—Product Name(s):

MR 3226—Fashion Claw Clip Rectangular

MR 3230—So Gelous Paddle Brush

MR 3239—Curl Contour Clips

Designated Source of Supply: Association for Vision Rehabilitation and Employment, Inc., Binghamton, NY

Contracting Activity: Military Resale-Defense Commissary Agency

NSN(s)—Product Name(s):

3990-00-NSH-0075—Pallet, Demolition Testing, 24″ x 48″

Contracting Activity: W4MM USA Joint Munitions Cmd, Rock Island, IL

Service(s)

Service Type: Administrative/General Support Services

Mandatory for: GSA, Southwest Supply Center: 819 Taylor Street, Fort Worth, TX

Designated Source of Supply: Beacon Lighthouse, Inc., Wichita Falls, TX

Contracting Activity: General Services Administration, FPDS Agency Coordinator

Service Type: Reproduction Service

Mandatory for: Fort Ord, Fort Ord, CA

Designated Source of Supply: Beacon Lighthouse, Inc., Wichita Falls, TX

Contracting Activity: Dept of the Army, W40M RHCO-Atlantic USAHCA

Service Type: Data Entry

Mandatory for: U.S. Department of Housing and Urban Development: 40 Marietta Street NW, 14th Floor, Atlanta, GA

Designated Source of Supply: Vision Rehabilitation Services of Georgia, Inc., Smyrna, GA

Contracting Activity: Housing and Urban Development, Department of, Dept of Housing and Urban Development

Michael R. Jurkowski,
Deputy Director, Business & PL Operations.

[FR Doc. 2021-02433 Filed 2-4-21; 8:45 am]

BILLING CODE 6353-01-P